DEPARTMENT OF THE TREASURY

Office of Thrift Supervision

Dollar Savings Bank, Newark, New Jersey; Notice of Appointment of Receiver

Notice is hereby given that, pursuant to the authority contained in section 5(d)(2) of the Home Owners' Loan Act, the Office of Thrift Supervision has duly appointed the Federal Deposit Insurance Corporation as receiver for Dollar Savings Bank, Newark, New Jersey (OTS No. 06755), on February 13, 2004.

Dated: February 18, 2004.
By the Office of Thrift Supervision.
Nadine Y. Washington,
Corporate Secretary.

[FR Doc. 04-3832 Filed 2-20-04; 8:45 am]

BILLING CODE 6720-01-M